DEPARTMENT OF THE INTERIOR

Fish and Wildlife Service

Availability of Draft Comprehensive Conservation Plan and Environmental Assessment for Minnesota Valley National Wildlife Refuge and Minnesota Valley Wetland Management District, Bloomington, MN

AGENCY: U.S. Fish and Wildlife Service, Interior.

ACTION: Notice of availability.

SUMMARY: Pursuant to the Refuge Improvement Act of 1997, the U.S. Fish and Wildlife Service has published a draft Comprehensive Conservation Plan and Environmental Assessment for Minnesota Valley national Wildlife Refuge (Refuge), which includes the Minnesota Valley Wetland Management District (District). This combined Plan describes how the Service intends to manage the Refuge and District for the next 15 years.

DATES: Submit written comments by July 1, 2002. All comments should be addressed to Minnesota Valley National Wildlife Refuge, Attn: CCP Comment, 3815 East 80th Street, Bloomington, Minnesota 55425-1600, or direct e-mail to r3planning@fws.gov. Comments may also be submitted through the Service's regional Web site at http://midwest.fws.gov/planning.

ADDRESSES: A draft Plan or summary may be obtained by writing to the Refuge or submitting a request electronically. These documents will also be made available in portable document format (pdf) on the U.S. Fish and Wildlife Service Web site at: http//midwest.fws.gov/planning. Address requests to: Minnesota Valley National Wildlife Refuge, 3815 East 80th Street, Bloomington, Minnesota 55425-1600, or direct e-mail to r3planning @fws.gov.

FOR FURTHER INFORMATION CONTACT: For additional information on the Draft Minnesota Valley NWR and Wetland Management District Comprehensive Conservation Plan, contact Rick Schultz, Refuge Manager, at the address above or call the Refuge at 952/858-0701.

SUPPLEMENTARY INFORMATION: In 1997, Congress mandated that the Service prepare a comprehensive conservation plan for each refuge within the National Wildlife Refuge System. Comprehensive conservation plans guide management decisions over the course of 15 years. The Minnesota Valley NWR and District Plan identifies goals and objectives for habitat management, land protection and wildlife-dependent recreation, as well as strategies for achieving those goals and objectives.

Dated: April 12, 2002.
William F. Hartwig,
Regional Director.

[FR Doc. 02-11332 Filed 5-7-02; 8:45 am]

BILLING CODE 4310-55-M